DEPARTMENT OF THE INTERIOR

Bureau of Land Management

[CA-190-07-1610]

Notice of Availability of Record of Decision for the Hollister Resource Management Plan for the Southern Diablo Mountain Range and Central Coast of California

AGENCY: Bureau of Land Management.

ACTION: Notice of Availability of Record of Decision (ROD).

SUMMARY: In accordance with the National Environmental Policy Act (NEPA), the Federal Land Policy and Management Act (FLPMA), and the Bureau of Land Management (BLM) policies, the BLM announces the availability of the Record of Decision (ROD)/Approved Resource Management Plan (RMP) for the Southern Diablo Mountain Range and Central Coast of California BLM public lands administered by the Hollister Field Office. The California State Director has signed the ROD, which constitutes the final decision of the BLM and makes the Approved RMP effective immediately.

ADDRESSES: Copies of the ROD and RMP are available upon request from the Field Manager, Hollister Field Office, Bureau of Land Management, 20 Hamilton Court, Hollister, California 95023 or via the internet at http://www.ca.blm.gov/hollister.

FOR FURTHER INFORMATION CONTACT: Sky Murphy, Hollister Field Office 20 Hamilton Court, Hollister, California 95023; Tel: (831) 630-5039; E-mail: Sky_Murphy@blm.gov.

SUPPLEMENTARY INFORMATION: The Hollister RMP for the Southern Diablo Mountain Range and Central Coast of California provides direction for managing approximately 274,000 acres of BLM-managed surface acres and 443,806 additional subsurface acres (mineral estate) in central California. The geographic area includes all BLM-managed public lands within the counties of Alameda, Contra Costa, Monterey, San Benito, San Mateo, Santa Clara, Santa Cruz, and portions of Fresno, Merced, Stanislaus, and San Joaquin counties. Planning for the Hollister RMP officially began with a Notice of Intent published in the Federal Register on March 30, 2004 initiating scoping. BLM sought participation from the public, tribes, and local state, and federal agencies in the development of this RMP and will continue to pursue partnerships in the management of the public lands. The RMP describes the actions to meet desired resource conditions for vegetation communities, wildlife habitats, and cultural and visual resources. It also outlines actions for recreation, protection of sensitive natural and cultural resources, livestock grazing, guidance for energy and mineral development, land tenure adjustments, and other planning issues raised during the scoping process.

The BLM's Draft RMP/Draft Environmental Impact Statement (EIS) for the Southern Diablo Mountain Range and Central Coast of California (October 2005) presented alternatives to help the BLM and interested parties understand the various ways of addressing issues in the region. Upon evaluation of the alternatives and associated impacts described in the Draft RMP/EIS and based on public and agency comments on that document, the BLM prepared the Proposed RMP and Final EIS for the Southern Diablo Mountain Range and Central Coast of California, which was released on July 14, 2006. The Proposed RMP includes the preferred alternative identified in the Draft RMP/EIS with minor changes as a result of comments received.

Eleven protest letters on the Proposed RMP were received and resolved by the BLM Director. The BLM determined that the Preferred Alternative, as described in the Proposed RMP and Final EIS, best meets the purpose and need for the plan; however, two (2) minor changes will be made to the ROD/Approved RMP. First, a mapping error will be corrected to show that BLM public lands in the Clear Creek Management Area administrative boundary, which were mistakenly included in Appendix A on Figures 25-27 of the Proposed RMP and Final EIS, will not be made available for disposal under this Record of Decision. Second, if and when BLM acquires certain property, described as approximately 5,514 acres at Coast Dairies in Santa Cruz County, management decisions for this property will be outlined in a separate Record of Decision (ROD).

The Approved RMP expands the existing 43,357 acre Panoche-Coalinga Area of Critical Environmental Concern (ACEC) to include an additional 12,772 acres, and designates two new ACECs (21,980 acres) and one Research Natural Area (RNA) for a total of 78,109 acres of special designations, which is approximately 3 percent of the planning area. The new ACECs include all BLM public lands at the former Fort Ord and 7,327 acres of BLM public lands surrounding Joaquin Rocks. The Monvero Dunes RNA (1,173 acres) is contained within the Panoche-Coalinga ACEC expansion.

The following types of resource use limitations would generally apply to these ACECs: (1) Motorized travel would be limited to designated routes; (2) limits on land disposal; and (3) limits on new mineral development (mineral leasing, locatable minerals and wind energy) to protect unique cultural values and special status plants and animals. For detailed information, see Chapter 3 and Appendix D of the ROD for the Hollister RMP for the Southern Diablo Mountain Range and Central Coast of California.

The Governor of the State of California in his letter dated September 15, 2006 stated, “Pursuant to 43 CFR 1603-2, and after consulting with affected State and Local agencies, the Governor's Office of Planning and Research (OPR) has not found any inconsistencies with any state or local plans, policies, or programs with regards to this [Proposed] Resource Management Plan.”

The decisions identifying designated routes of travel for motorized vehicles are implementation decisions and are appealable under 43 CFR Part 4. These decisions are contained on Figures 17-21 in Appendix A of the RMP. Any party adversely affected by the decisions identifying designated routes may appeal within 30 days of publication of this Notice of Availability. The appeal should state the specific route(s), as identified in Appendix A of the RMP, on which the decision is being appealed. The appeal must be filed with the Hollister Field Manager at the above listed address.

Please consult the appropriate regulations (43 CFR Part 4, Subpart E) for further appeal requirements. Before including your address, phone number, e-mail address, or other personal identifying information in your appeal, you should be aware that your entire appeal—including your personal identifying information—may be made publicly available at any time. While you can ask us in your appeal to withhold your personal information from public review, we cannot guarantee that we will be able to do so.

Dated: July 26, 2007.
Rick Cooper,
Hollister Field Office Manager.

[FR Doc. E7-17718 Filed 9-6-07; 8:45 am]

BILLING CODE 4310-40-P